COMMITTEE FOR PURCHASE FROM PEOPLE WHO ARE BLIND OR SEVERELY DISABLED

Procurement List, Proposed Additions

AGENCY: Committee for Purchase From People Who Are Blind or Severely Disabled.

ACTION: Proposed additions to Procurement List.

SUMMARY: The Committee is proposing to add to the Procurement List commodities and service to be furnished by nonprofit agencies employing persons who are blind or have other severe disabilities.

Comments Must be Received on or Before: December 10, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a) (2) and 41 CFR 51-2.3. Its purpose is to provide interested persons an opportunity to submit comments on the possible impact of the proposed actions.

If the Committee approves the proposed additions, the entities of the Federal Government identified in this notice for each commodity or service will be required to procure the commodities and service listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and service to the Government.

2. The action will result in authorizing small entities to furnish the commodities and service to the Government.

3. There are no known regulatory alternatives which would accomplish the objectives of the Javits-Wagner-O'Day Act (41 U.S.C. 46-48c) in connection with the commodities and service proposed for addition to the Procurement List. Comments on this certification are invited. Commenters should identify the statement(s) underlying the certification on which they are providing additional information.

The following commodities and service are proposed for addition to Procurement List for production by the nonprofit agencies listed:

Commodities

Shovel, Forest Fire

5120-00-965-0609

NPA: Arizona Industries for the Blind Phoenix, Arizona

Government Agency: GSA, General Products Commodity Center Correct-It Roller Applicator & Refill

7510-01-338-3317

7510-01-350-1810

7510-01-390-0717

7520-00-NIB-1524

7520-00-NIB-1525

7520-00-NIB-1526

7520-00-NIB-1527

NPA: Industries for the Blind, Inc. Milwaukee, Wisconsin

Government Agency: GSA/Office Supplies and Paper Products Commodity Center Labels, Laser

7530-00-NIB-0527

7530-00-NIB-0528

7530-00-NIB-0529

7530-00-NIB-0530

7530-00-NIB-0531

7530-00-NIB-0532

7530-00-NIB-0533

7530-00-NIB-0534

7530-00-NIB-0535

7530-00-NIB-0536

7530-00-NIB-0581

7530-00-NIB-0582

7530-00-NIB-0648

7530-00-NIB-0649

NPA: North Central Sight Services, Inc. Williamsport, Pennsylvania

Government Agency: GSA/Office Supplies and Paper Products Commodity Center

Service

Laundry Service

At the following locations:

Naval Air Station

Brunswick, Maine

Naval Shipyard

Portsmouth, New Hampshire

NPA: Newport County Chapter of Retarded Citizens, Inc. Middletown, Rhode Island

Government Agency: Fleet Industrial Supply Command, Norfolk—Philadelphia Detachment

Sheryl D. Kennerly,
Director, Information Management.

[FR Doc. 01-28212 Filed 11-8-01; 8:45 am]

BILLING CODE 6353-01-P